DEPARTMENT OF HEALTH AND HUMAN SERVICES

Centers for Disease Control and Prevention

Board of Scientific Counselors, Deputy Director for Infectious Diseases (BSC, DDID)

AGENCY: Centers for Disease Control and Prevention (CDC), Department of Health and Human Services (HHS).

ACTION: Notice of meeting.

SUMMARY: In accordance with the Federal Advisory Committee Act, the CDC announces the following meeting for the Board of Scientific Counselors, Deputy Director for Infectious Diseases (BSC, DDID). This virtual meeting is open to the public via Zoom, limited only by the space available, which is 500 seats. Pre-registration is required by accessing the link below in the address section.

DATES: The meeting will be held on December 9, 2020, 1:00 p.m. to 5 p.m., EST.

ADDRESSES: Zoom virtual meeting. Pre-registration is required by accessing the link at https://cdc.zoomgov.com/webinar/register/WN_6_Kuhs0ERBSX73CRak7gRQ. Instructions to access the meeting will be provided following registration.

FOR FURTHER INFORMATION CONTACT: Hilary Eiring, MPH, Designated Federal Officer, CDC, 1600 Clifton Road NE, Mailstop H24-12, Atlanta, Georgia 30329-4027, Telephone (770) 488-3901; HEiring@cdc.gov.

SUPPLEMENTARY INFORMATION:

Purpose: The BSC, DDID, provides advice and guidance to the Secretary, Department of Health and Human Services; the Director and the Deputy Director for Infectious Diseases (DDID), CDC; and the Directors of the National Center for Emerging and Zoonotic Infectious Diseases, the National Center for HIV/AIDS, Viral Hepatitis, STD, and TB Prevention, and the National Center for Immunization and Respiratory Diseases, CDC, in the following areas: Strategies, goals, and priorities for programs and research within the national centers and monitor the overall strategic direction and focus of DDID and the national centers.

Matters To Be Considered: The agenda will include updates and discussions on recent outbreaks and affected populations, as well as a brief report back from the Board's Food Safety Modernization Act Surveillance Working Group. Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-25063 Filed 11-12-20; 8:45 am]

BILLING CODE 4163-18-P